DEPARTMENT OF AGRICULTURE

National Agricultural Statistics Service

Notice of Intent to Seek Approval To Conduct an Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intent of the National Agricultural Statistics Service (NASS) to request approval for an information collection, the Childhood Agricultural Injury Study of Minority Farm Operators.

DATES: Comments on this notice must be received by August 25, 2000, to be assured of consideration.

ADDITIONAL INFORMATION OR COMMENTS: Contact Rich Allen, Associate Administrator, National Agricultural Statistics Service, U.S. Department of Agriculture, 1400 Independence Avenue SW, Room 4117 South Building, Washington, DC 20250-2000, (202) 720-4333.

SUPPLEMENTARY INFORMATION: Title: Childhood Agricultural Injury Study of Minority Farm Operators.

Type of Request: Intent to Seek Approval to Conduct an Information Collection.

Abstract: The Childhood Agricultural Injury Study of Minority Farm Operators is designed to provide estimates of childhood nonfatal injury incidence and description of injury occurring to children less than 20 years of age who reside, work, or visit farms operated by minorities. Data will be collected from all 50 states. Data will relate to accidents and injuries occurring during the 2000 calendar year. These data will be used by the National Institute of Occupational Safety and Health to establish a measure of the number and rate of childhood injuries associated with production agriculture, study the specific types of injuries sustained, and generate reports and disseminate information to all interested parties concerning the finding of this study.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 3 minutes per response.

Respondents: Farms.

Estimated Number of Respondents: 50,000.

Estimated Total Annual Burden on Respondents: 2,500 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, DC 20250-2000.

All responses to this notice will become a matter of public record and be summarized in the request for OMB approval.

Signed at Washington, D.C., June 1, 2000.
Rich Allen,
Associate Administrator.

[FR Doc. 00-15626 Filed 6-20-00; 8:45 am]

BILLING CODE 3410-20-P